NUCLEAR REGULATORY COMMISSION

Sunshine Federal Register Notice

Date: Weeks of October 1, 8, 15, 22, 29, November 5, 2007.

Place: Commissioners' Conference Room, 11555 Rockville Pike, Rockville, Maryland.

Status: Public and closed.

Matters to be Considered:

Week of October 1, 2007

Wednesday, October 3, 2007

2 p.m.

Briefing on NRC's International Programs, Performance, and Plans (Public Meeting) (Contact: Karen Henderson, 301-415-0202).

This meeting will be webcast live at the Web address— http://www.nrc.gov.

Friday, October 5, 2007

10 a.m.

Affirmation Session (Public Meeting) (Tentative)

a. PPL Susquehanna LLC (Susquehanna Steam Electric Station, Units 1 and 2) Extended Power Uprate—Eric Joseph Epstein's Appeal of LBP-07-10 (Tentative).

Week of October 8, 2007—Tentative

There are no meetings scheduled for the week of October 8, 2007.

Week of October 15, 2007—Tentative

There are no meetings scheduled for the week of October 15, 2007.

Week of October 22, 2007—Tentative

Wednesday, October 24, 2007

9:30 a.m.

Periodic Briefing on New Reactor Issues, Part 1 (Public Meeting) (Contact: Roger Rihm, 301-415-7807).

This meeting will be webcast live at the Web address— http://www.nrc.gov.

1:30 p.m.

Periodic Briefing on New Reactor Issues, Part 2 (Public Meeting) (Contact: Roger Rihm, 301-415-7807).

This meeting will be webcast live at the Web address— http://www.nrc.gov.

Week of October 29, 2007—Tentative

There are no meetings scheduled for the week of October 29, 2007.

Week of November 5, 2007—Tentative

There are no meetings scheduled for the week of November 5, 2007.

*The schedule for Commission meetings is subject to change on short notice. To verify the status of meetings, call (recording)—(301) 415-1292. Contact person for more information: Michelle Schroll, (301) 415-1662.

Additional Information

The “Periodic Briefing on Security Issues (Closed-Ex. 1 & 3)” previously scheduled on Monday, October 1, 2007 at 1:30 p.m. has been cancelled.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: September 27, 2007.
R. Michelle Schroll,
Office of the Secretary.

[FR Doc. 07-4881 Filed 9-28-07; 11:01 am]

BILLING CODE 7590-01-P